DEPARTMENT OF COMMERCE

Foreign-Trade Zones Board

[Order No. 1424]

Expansion of Foreign-Trade Zone 74, Baltimore, Maryland Area

Pursuant to its authority under the Foreign-Trade Zones Act of June 18, 1934, as amended (19 U.S.C. 81a-81u), the Foreign-Trade Zones Board (the Board) adopts the following Order:

Whereas, the Baltimore Development Corporation on behalf of the City of Baltimore, Maryland, grantee of Foreign-Trade Zone No. 74, submitted an application to the Board for authority to expand FTZ 74 in the Baltimore, Maryland area, to include new sites in Baltimore, Anne Arundel County and Harford County, within the Baltimore Customs port of entry (FTZ Docket 4-2005, filed 1/7/2005);

Whereas, notice inviting public comment was given in the Federal Register (70 FR 2997, 1/19/2005) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 74 is approved, subject to the Act and the Board's regulations, including Section 400.28;

Signed at Washington, DC, this 9th day of December 2005.

Joseph A. Spetrini,
Acting Assistant Secretary of Commerce for Import Administration, Alternate Chairman, Foreign-Trade Zones Board.
Attest:
Dennis Puccinelli,
Executive Secretary.

[FR Doc. E5-7706 Filed 12-21-05; 8:45 am]

BILLING CODE 3510-DS-S